DEPARTMENT OF COMMERCE

National Oceanic and Atmospheric Administration

RIN 0648-XX47

Marine Mammals; File No. 14097

AGENCY: National Marine Fisheries Service (NMFS), National Oceanic and Atmospheric Administration (NOAA), Commerce.

ACTION: Notice; receipt of application for permit amendment.

SUMMARY: Notice is hereby given that National Marine Fisheries Service, Southwest Fisheries Science Center (SWFSC) (Responsible Party: Lisa Ballance, Ph.D.), Protected Resources Division, 3333 N. Torrey Pines Ct., La Jolla, CA 92037, has applied for an amendment to Scientific Research Permit No. 14097-01.

DATES: Written, telefaxed, or email comments must be received on or before August 10, 2012.

ADDRESSES: The application and related documents are available for review by selecting “Records Open for Public Comment” from the Features box on the Applications and Permits for Protected Species home page, https://apps.nmfs.noaa.gov, and then selecting File No. 14097 from the list of available applications.

These documents are also available upon written request or by appointment in the following offices: See SUPPLEMENTARY INFORMATION.

Written comments on this application should be submitted to the Chief, Permits and Conservation Division, at the address listed below. Comments may also be submitted by facsimile to (301)713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Kristy Beard or Amy Hapeman, (301)427-8401.

SUPPLEMENTARY INFORMATION: The subject amendment to Permit No. 14097-01 is requested under the authority of the Marine Mammal Protection Act of 1972, as amended (16 U.S.C. 1361 et seq.), the regulations governing the taking and importing of marine mammals (50 CFR part 216), the Endangered Species Act of 1973, as amended (16 U.S.C. 1531 et seq.), and the regulations governing the taking, importing, and exporting of endangered and threatened species (50 CFR 222-226).

Permit No. 14097, issued on July 7, 2010, (75 FR 40776), authorizes the permit holder to conduct scientific research on 5 pinniped species, 57 cetacean species, and 5 sea turtle species in U.S. territorial and international waters of the Pacific, Southern, Indian, and Arctic Oceans as part of three projects. Under Project I (Pinnipeds) population assessments are conducted of northern elephant seals (Mirounga angustirostris), California sea lions (Zalophus californianus), Steller sea lions (Eumetopias jubatus), and harbor seals (Phoca vitulina) via aerial photography, ground or vessel surveys, and photogrammetry to determine abundance, distribution patterns, length frequencies, and breeding densities. Scats and spewings are collected from California sea lions to determine their diet. Under Project II (Cetaceans) surveys are conducted to determine the abundance, distribution, movement patterns, and stock structure of cetaceans. These studies are conducted through vessel surveys, aerial surveys, small plane photogrammetry, photo-identification (from vessels and small boats), biological sampling, radio tagging, and satellite tagging. Under Project III (Sea Turtles) surveys are conducted to determine the abundance, distribution, movement patterns, stock structure, and diet of sea turtles. Sea turtles may be opportunistically captured during Project II surveys for biological sampling and to attach satellite tags. Cetacean, pinniped, and sea turtle biological samples may be imported/exported. The permit was amended (to version no. 14097-01) on July 7, 2011, to authorize use of less invasive suction cup tags instead of a portion of the authorized dart/barb tag takes.

The permit holder is requesting the permit be amended to (1) include authorization for the attachment of dart/barb tags or implantable tags on Arnoux's beaked whales (Berardius arnuxii) in the Southern Ocean, using the methods authorized for other species; and (2) increase the takes of pinniped species encountered during aerial, ground, and vessel surveys in the Pacific Ocean, to account for ten additional surveys per year. The expiration date of the permit would not change: June 30, 2015.

In compliance with the National Environmental Policy Act of 1969 (42 U.S.C. 4321 et seq.), an initial determination has been made that the activities proposed are consistent with the Proposed Action Alternative in the Environmental Assessment (EA) for Issuance of a Scientific Research Permit [File No. 14097] for Pinniped, Cetacean, and Sea Turtle Studies (NMFS 2010). Based on that analysis, NMFS determined that issuance of the permit would not significantly impact the quality of the human environment and that preparation of an environmental impact statement was not required. That determination is documented in a Finding of No Significant Impact (FONSI), signed on July 1, 2010. The EA and FONSI are available upon request.

Concurrent with the publication of this notice in the Federal Register, NMFS is forwarding copies of this application to the Marine Mammal Commission and its Committee of Scientific Advisors.

Documents may be reviewed in the following locations:

Permits and Conservation Division, Office of Protected Resources, NMFS, 1315 East-West Highway, Room 13705, Silver Spring, MD 20910; phone (301)427-8401; fax (301)713-0376;

Northwest Region, NMFS, 7600 Sand Point Way NE., BIN C15700, Bldg. 1, Seattle, WA 98115-0700; phone (206)526-6150; fax (206)526-6426;

Alaska Region, NMFS, P.O. Box 21668, Juneau, AK 99802-1668; phone (907)586-7221; fax (907)586-7249;

Southwest Region, NMFS, 501 West Ocean Blvd., Suite 4200, Long Beach, CA 90802-4213; phone (562)980-4001; fax (562)980-4018; and

Pacific Islands Region, NMFS, 1601 Kapiolani Blvd., Rm 1110, Honolulu, HI 96814-4700; phone (808)944-2200; fax (808)973-2941.

Dated: July 5, 2012.
P. Michael Payne,
Chief, Permits and Conservation Division, Office of Protected Resources, National Marine Fisheries Service.

[FR Doc. 2012-16916 Filed 7-10-12; 8:45 am]

BILLING CODE 3510-22-P